DEPARTMENT OF COMMERCE

International Trade Administration

[A-570-909]

Certain Steel Nails From the People's Republic of China: Final Results of Antidumping Duty Administrative Review; 2013-2014

Correction

In notice document 2016-05994 beginning on page 14092 in the issue of Wednesday, March 16, 2016, make the following correction:

Due to numerous errors, the table on page 14094 is being reprinted in its entirety to read as follows:

Exporter | Weighted- average margin (percent)
Stanley | 11.95
Chiieh Yung Metal Ind. Corp. | 11.95
Dezhou Hualude Hardware Products Co., Ltd. | 11.95
Hebei Cangzhou New Century Foreign Trade Co., Ltd. | 11.95
Nanjing Caiqing Hardware Co., Ltd. | 11.95
Qingdao D&L Group Ltd. | 11.95
SDC International Aust. PTY. Ltd. | 11.95
Shandong Dinglong Import & Export Co., Ltd | 11.95
Shanghai Curvet Hardware Products Co., Ltd. | 11.95
Shanghai Yueda Nails Industry Co., Ltd | 11.95
Shanxi Hairui Trade Co., Ltd. | 11.95
Shanxi Pioneer Hardware Industrial Co., Ltd. | 11.95
Shanxi Tianli Industries Co., Ltd. | 11.95
S-Mart (Tianjin) Technology Development Co., Ltd. | 11.95
Suntec Industries Co., Ltd. | 11.95
Tianjin Jinchi Metal Products Co., Ltd. | 11.95
Tianjin Jinghai County Hongli Industry & Business Co., Ltd. | 11.95
Tianjin Lianda Group Co., Ltd. | 11.95
Tianjin Universal Machinery Imp. & Exp. Corporation | 11.95
Tianjin Zhonglian Metals Ware Co., Ltd. | 11.95
Xi'an Metals & Minerals Import & Export Co., Ltd. | 11.95

[FR Doc. C1-2016-05994 Filed 4-1-16; 8:45 am]

BILLING CODE 1505-01-D